DEPARTMENT OF COMMERCE

National Oceanic and Atmospheric Administration

50 CFR Part 300

[Docket No. 060215036-6178-02; I.D. 101501A]

RIN 0648-AU30

Pacific Halibut Fisheries; Guideline Harvest Levels for the Guided Recreational Halibut Fishery; Correction

AGENCY: National Marine Fisheries Service (NMFS), National Oceanic and Atmospheric Administration (NOAA), Commerce.

ACTION: Final rule; correcting amendment.

SUMMARY: This action corrects the regulatory text of a final rule published August 8, 2003, (FR Doc. 03-20285) that implemented the guideline harvest level (GHL) for the charter sport fishery for Pacific halibut in waters off Alaska. This action is necessary to correct a typographical error in regulations implementing the GHL.

DATES: July 6, 2006.

FOR FURTHER INFORMATION CONTACT: Jason Gasper, NMFS, 907-586-7228 or email at jason.gasper@noaa.gov.

SUPPLEMENTARY INFORMATION: A final rule published August 8, 2003, (68 FR 47256) implemented guideline harvest level (GHL) measures for managing the harvest of Pacific halibut (Hippoglossus stenolepis) in the charter sport fishery in International Pacific Halibut Commission (Commission) management Area 2C and Area 3A in and off Alaska. This correcting amendment revises the regulation at 50 CFR 300.65(c)(2) to change the reference to Commission management from Area 3B to Area 3A. Paragraph (c)(2) is set out as paragraph (i)(2) in the August 8, 2003, rule and was redesignated as paragraph (c)(2) on April 1, 2005 (70 FR 16742).

Need for Correction

Current text at § 300.65(c)(2) incorrectly indicates that the GHL will be established for Commission Area 3B. This regulation states that “NMFS will publish a notice in the Federal Register on an annual basis establishing the GHL for Area 2C and Area 3B for that Calendar year within 30 days of receiving information from the Commission which establishes the constant exploitation yield for that year.” This regulation is not consistent with § 300.65(c)(1), which provides for the annual determination of GHLs for Area 2C and Area 3A based on the constant exploitation yield (CEY) for halibut in Area 2C and Area 3A. When the Commission establishes the annual CEY, § 300.65(c)(2) provides that NMFS must notify the public of the GHLs by publication of a notice in the Federal Register, presumably for Area 2C and Area 3A as prescribed in § 300.65(c)(1) rather than for Area 2C and Area 3B as currently stated in § 300.65(c)(2). The regulation also is not consistent with § 300.65(c)(3) which codifies procedures that NMFS takes if the GHL is exceeded in Area 2C and Area 3A. Therefore, the reference to Area 3B at § 300.65(c)(2) is not consistent with the Commission areas outlined in all other GHL regulations at § 300.65(c). In addition, the GHL was not intended to apply in Area 3B as it was described in the proposed rule (67 FR 3867, January 28, 2002), or in the preamble to the final rule implementing the GHL (68 FR 47256, August 8, 2003). Reference to Area 3B at § 300.65(c)(2) is a typographical mistake. This rule issues a correcting amendment to correct the typographical error at § 300.65(c)(2) to indicate Commission management Area 3A instead of Area 3B.

Classification

Pursuant to 5 U.S.C. 553(b)(3)(B), the Assistant Administrator for Fisheries, NOAA (AA), finds good cause to waive the requirement to provide prior notice and opportunity for public comment on this correcting amendment to the GHL regulations, as such procedures would be unnecessary. Notice and comment is unnecessary because this action makes a minor, non-substantive change correcting a Commission area in § 300.65(c)(2), which is itself a ministerial provision requiring NOAA to publish in the Federal Register notice to the public of the GHLs set for Areas 2C and 3A pursuant to § 300.65(c)(1). The rule does not make any substantive change in the rights and obligations of charter sport fishermen managed under the GHL halibut regulations. No aspect of this action is controversial and no change in operating practices in the fishery is required. Because this action makes only the minor, non-substantive changes to § 300.65(c)(2) described above, this rule is not subject to the 30-day delay in effective date requirement of 5 U.S.C. 553(d).

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: June 29, 2006.
William T. Hogarth,
Assistant Administrator for Fisheries, National Marine Fisheries Service.

Accordingly, 50 CFR part 300 is corrected by making the following correcting amendment:

PART 300—INTERNATIONAL FISHERIES REGULATIONS

Subpart E—Pacific Halibut Fisheries

1. The authority citation for 50 CFR part 300, subpart E, continues to read as follows:

Authority: 16 U.S.C. 773-773k.

2. In § 300.65, paragraph (c)(2) is revised to read as follows:

§ 300.65 Catch sharing plan and domestic management measures in waters in and off Alaska.

(c) * * *

(2) NMFS will publish a notice in the Federal Register on an annual basis establishing the GHL for Area 2C and Area 3A for that Calendar year within 30 days of receiving information from the Commission which establishes the constant exploitation yield for that year.

[FR Doc. E6-10556 Filed 7-5-06; 8:45 am]

BILLING CODE 3510-22-S